ENVIRONMENTAL PROTECTION AGENCY

40 CFR Part 60

[EPA-HQ-OAR-2017-0483; FRL-9984-38-OAR]

RIN 2060-AT54

Oil and Natural Gas Sector: Emission Standards for New, Reconstructed, and Modified Sources Reconsideration

AGENCY: Environmental Protection Agency (EPA).

ACTION: Notice of public hearing.

SUMMARY: On October 15, 2018, the Environmental Protection Agency (EPA) published in the Federal Register a proposed rule titled “Oil and Natural Gas Sector: Emission Standards for New, Reconstructed, and Modified Sources Reconsideration.” The comment period on the proposed action will end on December 17, 2018. The EPA is announcing that it will hold a public hearing on the proposed action. The hearing will provide interested parties the opportunity to present data, views, or arguments concerning the proposed action.

DATES: The EPA will hold a public hearing on November 14, 2018, in Denver, Colorado. Please refer to the SUPPLEMENTARY INFORMATION section for additional information on the public hearing.

ADDRESSES: The hearing will be held at the EPA Region 8 offices, 1595 Wynkoop Street, Denver, Colorado 80202. The hearing will convene at 8:00 a.m. local time and will conclude at 8:00 p.m. local time. Lunch and dinner breaks will be scheduled as time will allow depending on the number of registered speakers.

Because this hearing is being held at a U.S. government facility, individuals planning to attend the hearing should be prepared to show valid picture identification to the security staff in order to gain access to the meeting room. Please note that the REAL ID Act, passed by Congress in 2005, established new requirements for entering federal facilities. For purposes of the REAL ID Act, the EPA will accept government-issued IDs, including driver's licenses from the District of Columbia and all states and territories except from American Samoa. If your identification is issued by American Samoa, you must present an additional form of identification to enter the federal building where the public hearing will be held. Acceptable alternative forms of identification include: federal employee badges, passports, enhanced driver's licenses, and military identification cards. For additional information for the status of your state regarding REAL ID, go to: https://www.dhs.gov/real-id-frequently-asked-questions. Any objects brought into the building need to fit through the security screening system, such as a purse, laptop bag, or small backpack. Demonstrations will not be allowed on federal property for security reasons.

FOR FURTHER INFORMATION CONTACT: The EPA will begin pre-registering speakers for the hearing upon publication of this document in the Federal Register. To register to speak at the hearing, please use the online registration form available at https://www.epa.gov/controlling-air-pollution-oil-and-natural-gas-industry/forms/public-hearing-proposed-improvements or contact Virginia Hunt at (919) 541-0832 to register to speak at the hearing. The last day to pre-register to speak at the hearing will be November 6, 2018. On November 13, 2018, the EPA will post at https://www.epa.gov/controlling-air-pollution-oil-and-natural-gas-industry/forms/public-hearing-proposed-improvements a general agenda for the hearing that will list pre-registered speakers in approximate order. The EPA will make every effort to follow the schedule as closely as possible on the day of the hearing; however, please plan for the hearing to run either ahead of schedule or behind schedule. Additionally, requests to speak will be taken the day of the hearing at the hearing registration desk. The EPA will make every effort to accommodate all speakers who arrive and register, although preferences on speaking times may not be able to be fulfilled.

SUPPLEMENTARY INFORMATION: Each commenter will have 5 minutes to provide oral testimony. The EPA encourages commenters to provide the EPA with a copy of their oral testimony electronically (via email) or in hard copy form.

The EPA may ask clarifying questions during the oral presentations, but will not respond to the presentations at that time. Written statements and supporting information submitted during the comment period will be considered with the same weight as oral comments and supporting information presented at the public hearing. Commenters should notify Virginia Hunt if there are special needs related to providing comments at the hearings. Verbatim transcripts of the hearings and written statements will be included in the docket for the rulemaking.

Please note that any updates made to any aspect of the hearing will be posted online at https://www.epa.gov/controlling-air-pollution-oil-and-natural-gas-industry/forms/public-hearing-proposed-improvements. While the EPA expects the hearing to go forward as set forth above, please monitor our website or contact Virginia Hunt at (919) 541-0832 or hunt.virginia@epa.gov to determine if there are any updates. The EPA does not intend to publish a document in the Federal Register announcing updates.

The EPA will not provide audiovisual equipment for presentations. Any media presentations should be submitted to the public docket at https://www.regulations.gov/, identified by Docket ID No. EPA-HQ-OAR-2017-0483. The EPA must receive comments on the proposed action (83 FR 52056) no later than December 17, 2018.

If you require the service of a translator or special accommodations such as audio description, please pre-register for the hearing and describe your needs by November 6, 2018. We may not be able to arrange accommodations without advanced notice.

Dated: October 22, 2018.
Panagiotis Tsirigotis,
Director, Office of Air Quality Planning and Standards.

[FR Doc. 2018-23570 Filed 10-26-18; 8:45 am]

BILLING CODE 6560-50-P